DEPARTMENT OF ENERGY

Federal Energy Regulatory Commission

[Docket No. MT00-6-000]

Kinder Morgan Interstate Gas Transmission LLC; Notice of Tariff Filing

May 10, 2000.

Take notice that on May 4, 2000, Kinder Morgan Interstate Gas Transmission LLC (KMIGT) tendered for filing revisions to its FERC Gas Tariff, Fourth Revised Volume No 1-B, First Revised Sheet Nos 3, 55 and 56 and Second Revised Volume No. 1-D, First Revised Sheet Nos. 3, 48 and 49.

KMIGT states that on April 5, 2000, Kinder Morgan, Inc. (KMI) closed on a transaction with ONEOK, Inc. (ONEOK) whereby various assets and entities were transferred to ONEOK, including all entities that were then marketing affiliates of KMIGT. As a result of the transaction, KMI states that it no longer has a marketing affiliate and is revising the tariff accordingly.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-12219 Filed 5-15-00; 8:45 am]

BILLING CODE 6717-01-M